DEPARTMENT OF HOMELAND SECURITY

Coast Guard

33 CFR Part 165

[CGD13-05-031]

RIN 1625-AA87

Security Zone; Protection of Military Cargo, Captain of the Port Zone Puget Sound, WA

AGENCY: Coast Guard, DHS.

ACTION: Final rule; correction.

SUMMARY: The Coast Guard Captain of the Port Puget Sound published in the Federal Register of December 10, 2004, a final rule concerning security zones for the protection of military cargo loading and unloading operations in the navigable waters of Puget Sound. Wording in § 165.1321(c)(3) is being corrected to fix a typographical error in the latitude and longitude of the last point listed in the security zone. This document makes this correction.

DATES: This rule is effective August 8, 2005.

FOR FURTHER INFORMATION CONTACT: Lieutenant Junior Grade Jessica Hagen, c/o Captain of the Port Puget Sound, Coast Guard Sector Seattle, 1519 Alaskan Way South, Seattle, WA 98134 at (206) 217-6232.

SUPPLEMENTARY INFORMATION: The Coast Guard published a document in the Federal Register on December 10, 2004 (69 FR 71709), which amended 33 CFR 165.1321 by adding Budd Inlet, Olympia, WA as a permanent security zone. In this document, paragraph (c)(3) of the regulatory text contained a typographical error in the latitude and longitude of the last point listed in the security zone.

Accordingly, 33 CFR 165.1321 is corrected by making the following correcting amendments:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

§ 165.1321 [Amended]

2. In § 165.1321, in paragraph (c)(3), remove the phrase “47°03′01″N, 122°54′21″W” and add, in its place, the phrase “47°03′04″N, 122°54′19.5″W”.

Dated: July 26, 2005.
Stephen P. Metruck,
Captain, U.S. Coast Guard, Captain of the Port, Puget Sound.

[FR Doc. 05-15565 Filed 8-5-05; 8:45 am]

BILLING CODE 4910-15-P